DEPARTMENT OF LABOR

Employment and Training Administration

Solicitation for Grant Applications; National Farmworker Jobs Program for Program Year 2009

AGENCY: U.S. Department of Labor (Department or DOL), Employment and Training Administration (ETA).

ACTION: Announcement of a Program Year (PY) 2009 grant competition for the Arkansas, Hawaii, Indiana, Maine, and Nebraska service delivery areas for operating the National Farmworker Jobs Program (NFJP) under section 167 of the Workforce Investment Act of 1998 (WIA), 29 U.S.C. 2912. This funding announcement is applicable to NFJP service delivery areas not meeting waiver eligibility as described in Training and Employment Guidance Letter (TEGL) 25-08, and the service delivery area of Maine.

Funding Opportunity Number: SGA/DFA PY 09-02.

Catalog of Federal Domestic Assistance (CFDA) Number: 17.264.

SUMMARY: The DOL, ETA, Office of Workforce Investment, Division of Adult Services, announces a grant competition for operating the NFJP, under section 167 of the WIA, 29 U.S.C. 2912 in certain specified service delivery areas. The WIA generally requires the DOL to conduct a grants competition every two years to select entities to operate the NFJP. DOL is exercising its option under WIA sec. 167 (c)(4)(B) to waive competition for the biannual grant competition scheduled for PY 2009 for those grantees determined to have performed successfully as described in TEGL 25-08.

As explained in TEGL 25-08, the grantees operating in the following service delivery areas were determined to be ineligible for waiver: Arkansas, Hawaii, Indiana, and Nebraska. The current grantee in Maine will cease business operations effective July 1, 2009, necessitating competition in that service delivery area. Accordingly, this notice solicits proposals for grant applications from eligible organizations to serve these areas during PY 2009 and 2010 (October 1, 2009 through June 30, 2011). Due to the late publication date of this announcement, current NFJP grantees have been given an extension to operate the NFJP for the first quarter of PY 2009 (July 1, 2009 through September 30, 2009). The extension is a necessity in order to avoid a disruption in service and harm to the participants caused by the late onset of the competition, which is no fault of the current grantees. The current grant will be funded on a pro-rated basis until September 30, 2009. The ETA will determine the exact percentage of pro-rated funds. Current grantees in the service delivery areas defined above are invited to submit applications to compete for PY 2009 NFJP funds. All interested applicants should read this notice in its entirety.

DATES: The closing date for receipt of applications under this announcement is September 1, 2009. Applications must be received at the address below no later than 4 p.m., Eastern Time.

ADDRESSES: Mailed applications must be directed to the U.S. Department of Labor, Employment and Training Administration, Division of Federal Assistance, Attention: B. Jai Johnson, Ref: SGA/DFA PY 09-02, Room N-4716, 200 Constitution Avenue, NW., Washington, DC 20210. Other submission options are discussed in Section IV of this solicitation.

SUPPLEMENTARY INFORMATION:

I. Funding Opportunity Description

The ETA is requesting grant applications from eligible applicants to operate the NFJP in accordance with section 167 of the WIA during PY 2009 and PY 2010 in the following service delivery areas: Arkansas, Hawaii, Indiana, Maine, and Nebraska. The NFJP is designed to serve economically disadvantaged persons who primarily depend on employment in agricultural labor performed within the United States, including Puerto Rico, and who experience chronic unemployment or underemployment. Qualifying participants are typically those persons employed on a seasonal or part-time basis in the unskilled and semi-skilled manual labor occupations in crop and animal production. Through training and other workforce development services, the program is intended to assist eligible migrants and seasonal farmworkers and their families to prepare for jobs likely to provide stable, year-round employment both within and outside agriculture.

The NFJP is subject to the requirements found at WIA section 167 and the Department's regulations at 20 CFR part 669. This program is also subject to the requirements of 29 CFR parts 93 (New Restrictions on Lobbying), 96 (Audit Requirements), and 98 (Debarment, Suspension, and Drug-Free Workplace Requirements), the non-discrimination regulations implementing WIA section 188 at 29 CFR part 37, as well as DOL's Equal Treatment regulations, found at 29 CFR part 2, Subpart D. Applicants should be familiar with these requirements and consult the WIA regulations at 20 CFR parts 660 through 671 in developing their grant proposals. Should the regulations at part 669 of WIA conflict with regulations elsewhere in 20 CFR, the regulations at part 669 will control. In addition, this program is subject to the provisions of the “Jobs for Veterans Act,” Public Law 107-288, and its implementing regulations at 20 CFR part 1010 (73 FR 78132 (Dec. 19, 2008)), which provides priority of service to veterans and spouses of certain veterans for the receipt of employment, training, and placement services in any job training program directly funded, in whole or in part, by the U.S. DOL. In circumstances where a NFJP grant recipient must choose between two equally qualified candidates for training, one of whom is a veteran, the Jobs for Veterans Act requires that NFJP grant recipients give the veteran priority of service by admitting him or her into the program. Please note that, to obtain priority of service, a veteran must first meet the program's eligibility requirements. Guidance on veterans priority is available at the “Jobs for Veterans Priority of Service” Web site at http://www.doleta.gov/programs/vets.

The NFJP is subject to the common performance measures for job training and employment programs established by the Office of Management and Budget (OMB). Guidance on the common performance measures can be found in ETA's TEGL No. 17-05 (February 17, 2006), available at http://wdr.doleta.gov/directives/corr_ doc.cfm?DOCN=2195. Applications submitted in response to this solicitation are required to include estimates of expected performance against these common performance measures. The common performance measures are: Entered Employment, Employment Retention, and Average Earnings. To assist applicants with their estimates, the national goals for PY 2009 for the three measures are: Entered Employment, 72.2%; Employment Retention, 71.8%; and Average Earnings, $8,844.

Applicants are required to describe their reporting system that allows for the data collection necessary to report results against the common measures. The NFJP began data collection for the common measures on July 1, 2005.

II. Award Information

The type of assistance instrument to be used for the NFJP is the grant. Grants awarded through this solicitation will be for a two-year period, as prescribed in WIA section 167, but funded on an annual basis. Through the formula allotment process as determined by ETA, a total of $2,779,204 is available for the Arkansas, Indiana, Hawaii, Maine, and Nebraska service delivery areas. Be advised that this total provides funding for these five NFJP grantees for a portion of PY 2009 only (October 1, 2009 through June 30, 2010). Thereafter, second year total allocations will be dependent on the availability of funding through the FY 2010 appropriations process and on the grantee's compliance with all current and future ETA guidance related to the NFJP.

State allocations are established through a formula process, and are published in a separate Federal Register Notice. Please refer to our Web site (http://www.doleta.gov/MSFW/pdf/allocationtable.pdf) for a list of individual state allocations.

Be advised that in the event that no grant application is received for a state, or all applications received are considered not fundable by the Grant Officer after the panel review and scoring process, or a grant agreement is not successfully negotiated with a selected applicant, the Department will offer the Governor of that state an opportunity to submit an application, if that state has not applied (i.e., if no state agency in that state applied for a grant in this competition). If the Governor does not accept this offer within 15 days after being notified, or the Department finds the Governor's application not fundable, the Department reserves the right to designate another organization to operate the NFJP in that state. In cases where the state agency was an applicant, and all applications are found not fundable or are not successfully negotiated, the Department reserves the right to designate an organization to operate the NFJP in that state based on the Grant Officer's judgment on how to best serve the needs of the migrant and seasonal farmworker population in the service delivery area. The Grant Officer shall retain full authority in soliciting applications from governors and making final determinations as to which entities best qualify to serve the migrant and seasonal farmworker population in each service delivery area.

Note: Selection of an organization as a grantee does not constitute approval of the grant application as submitted. Before the actual grant is awarded, the Department may enter into negotiations about such items as program components, staffing and funding levels, and administrative systems in place to support grant implementation. If the negotiations do not result in a mutually acceptable submission, the Grant Officer reserves the right to terminate the negotiation and decline to fund the application.

III. Eligibility Information

Eligible Applicants—Applicants need not be a current or prior WIA section 167 grantee to establish eligibility to be awarded a grant under this solicitation. State agencies, Local Workforce Investment Boards (LWIBs), faith-based and community organizations, institutions of higher learning, and other entities capable of delivering services on a statewide basis are all examples of organizations eligible to apply for WIA section 167 grants. WIA section 167(b) describes entities eligible to receive a grant as those that have:

• An understanding of the problems of eligible migrant and seasonal farmworkers, including their dependents;

• A familiarity with the geographical area to be served; and

• A demonstrated capacity to effectively administer a diversified program of workforce investment activities for eligible migrant and seasonal farmworkers.

Cost Sharing or Matching—The WIA section 167 does not require grantees to share costs or provide matching funds.

Other Eligibility Criteria—In accordance with 29 CFR Part 98, entities that are debarred or suspended shall be excluded from Federal financial assistance and are ineligible to receive a WIA section 167 grant. Prior to awarding a grant, the Grant Officer will conduct a responsibility review of each potential grantee through available records. The responsibility review relies on examining available records to determine if an applicant has a satisfactory history of accounting for Federal funds and property. The responsibility review is independent of the competitive process. Applicants failing to meet the standards of the responsibility review may be disqualified for selection as grantees, irrespective of their standing in the competition. Any applicant that is not selected as a result of the responsibility review will be advised of their appeal rights. The responsibility tests that will be applied are those found in the WIA regulations (20 CFR 667.170).

Veterans Priority. The Jobs for Veterans Act (Pub. L. 107-288) provides priority of service to veterans and spouses of certain veterans for the receipt of employment, training, and placement services in any job training program directly funded, in whole or in part, by the Department. In circumstances where a grant recipient must choose between two equally qualified candidates for training, one of whom is a veteran, the Jobs for Veterans Act requires that grant recipients give the veteran priority of service by admitting him or her into the program. Please note that, to obtain priority of service, a veteran must meet the program's eligibility requirements. ETA Training and Employment Guidance Letter (TEGL) No. 5-03 (September 16, 2003) provides general guidance on the scope of the Job for Veterans Act and its effect on current employment and training programs. TEGL No. 5-03, along with additional guidance, is available at “Jobs for Veterans Priority of Services” Web site at: http://www.doleta.gov/programs/vets.

IV. Application and Submission Information

A. Address To Request Application Package

This SGA contains all of the information and links to forms needed to apply for grant funding.

B. Content and Form of Application Submission

An application must include two (2) separate and distinct parts: Part I—a cost proposal, and Part II—a technical proposal. Applications that fail to adhere to the instructions in this section will be deemed non-responsive and will not be considered. Part I, the Cost Proposal, must include the following items:

Part I. Cost Proposal. The Cost Proposal must include the following three items:

• The Standard Form (SF) 424, “Application for Federal Assistance” (available at http://www07.grants.gov/agencies/forms_repository_information.jsp and http://www.doleta.gov/sga/forms.cfm.). The SF 424 must clearly identify the applicant and be signed by an individual with authority to enter into a grant agreement. Upon confirmation of an award, the individual signing the SF 424 on behalf of the applicant shall be considered the representative of the applicant.

• All applicants for Federal grant and funding opportunities are required to have a Dun and Bradstreet (DUNS) number. See Office of Management and Budget (OMB) Notice of Final Policy Issuance, 68 FR 38402 (June 27, 2003). Applicants must supply their DUNS number on the SF 424. The DUNS number is a nine-digit identification number that uniquely identifies business entities. Obtaining a DUNS number is easy and there is no charge. To obtain a DUNS number, access this Web site: http://www.dunandbradstreet.com or call 1-866-705-5711.

• The SF 424A Budget Information Form (available at http://www07.grants.gov/agencies/forms_repository_information.jsp and http://www.doleta.gov/sga/forms.cfm.). In preparing the Budget Information Form, the applicant must provide a detailed budget for both the planning and operations aspects of the project, with a narrative explanation in support of the request. The budget narrative should break down the budget and leveraged resources by project activity, should discuss cost-per-participant, and should discuss precisely how the administrative costs support the project goals. Administrative costs do not need to be identified separately from program costs on the SF 424A Budget Information Form.

Please note that applicants who fail to provide a SF 424, SF 424A, and/or a budget narrative will be removed from consideration prior to the technical review process. If the proposal calls for integrating WIA or other Federal funds or includes other leveraged resources, these funds should not be listed on the SF 424 or SF 424A Budget Information Form, but should be described in the budget narrative and in Part II of the proposal. The amount of Federal funding requested for the entire period of performance should be shown on the SF 424 and SF 424A Budget Information Form. Applicants are also encouraged, but not required, to submit OMB Survey N. 1890-0014: Survey on Ensuring Equal Opportunity for Applicants, which can be found at http://www.doleta.gov/sga/forms.cfm.

Part II. Technical Proposal. The Technical Proposal will demonstrate the applicant's capability to plan and implement a project in accordance with the provisions of this solicitation. The guidelines for the content of the Technical Proposal are provided in Part V, Section A of this SGA. The Technical Proposal is limited to twenty (20) double-spaced single-sided pages with 12-point text font and one-inch margins. Any pages submitted in excess of this 20-page limit will not be reviewed. Letters of support and any required attachments will not be subject to the page limitations, nor will they be included in the materials provided to the panel for review of the proposal. If any attachments are included, please label each accordingly and specify the content of the attachment.

Applicants submitting proposals in hard-copy must submit an original signed application (including the SF-424) and one (1) “copy-ready” version free of bindings, staples or protruding tabs to ease in the reproduction of the proposal by DOL. Applicants submitting proposals in hard-copy are also requested, though not required, to provide an electronic copy of the proposal on CD-ROM. No cost data or reference to prices should be included in the Technical Proposal. Instead, applicants should provide a two-page abstract summarizing the proposed project and applicant profile information, including the applicant's name, the project title, and the funding level requested. The two-page abstract is not included in the 20-page limit. Applications that do not meet these requirements will not be considered.

Submission Procedures. This SGA includes all information and forms needed to apply for this funding opportunity.

Content and Form of Application Submission. Applicants may apply online through Grants.gov (http://www.grants.gov), however, due to the expected increase in system activity resulting from the American Recovery and Reinvestment Act of 2009, applicants are encouraged to use an alternate method to submit grant applications during this heightened period of demand. While not mandatory, DOL encourages the submission of applications thru professional overnight delivery service.

Applications that are submitted thru Grants.gov must be successfully submitted at http://www.grants.gov no later than 4 p.m. (Eastern Time) on September 1, 2009, and then subsequently validated by Grants.gov. The submission and validation process is described in more detail below. The process can be complicated and time-consuming. Applicants are strongly advised to initiate the process as soon as possible and to plan for time to resolve technical problems if necessary.

It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is highly recommended that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission, therefore sufficient time should be allotted for submission (two business days), and if applicable, subsequent time to address errors and receive validation upon resubmission (an additional two business days for each ensuing submission). It is important to note that if sufficient time is not allotted and a rejection notice is received after the due date and time, the application will not be considered.

The components of the application must be saved as either .doc, .xls or .pdf files. Documents received in a format other than .doc, .xls or .pdf will not be read. Applicants are strongly advised to utilize the plethora of tools and documents, including FAQs, that are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp. If applicants encounter a problem with Grants.gov and do not find an answer in any of the other resources, call 1-800-518-4726 to speak to a Customer Support Representative or e-mail “support@grants.gov”.

Late Applications. Any application received after the closing date and time specified for receipt at the office designated in this notice will not be considered, unless it is received before awards are made and (a) it was sent by the U.S. Postal Service registered or certified mail no later than the fifth calendar day before the date specified for receipt of applications (e.g., an application required to be received by the 20th of the month must be postmarked by the 15th of that month); or (b) it was sent via professional overnight delivery service or submitted on Grants.gov to the addressee not later than one working day prior to the date specified for receipt of applications. The term “working days” excludes weekends and Federal holidays. “Postmarked” means a printed, stamped, or otherwise placed impression that is readily identifiable, without further action, as having been supplied or affixed on the date of mailing by an employee of the U.S. Postal Service.

Intergovernmental Review. Executive Order No. 12372, “Intergovernmental Review of Federal Programs,” and the implementing regulations at 29 CFR part 17 are applicable to this program. Under these requirements, an applicant must provide a copy of the funding proposal for comment to the states that have established a consultation process under the Executive Order. Applications must be submitted to the state's Single Point of Contact (SPOC), no later than the deadline for submission of the application to the Department. For states that have not established a consultative process under E.O. 12372, but have a State Workforce Investment Board (State Board), the State Board will be the SPOC. For WIA implementation purposes, this consultative process fulfills the requirement of WIA section 167(e) concerning consultation with Governors and Local Workforce Investment Boards (LWIB). To strengthen the implementation of E.O. 12372, the Department establishes the following timeframe for the treatment of comments from the state's SPOC on WIA section 167 applications: (1) The SPOC must submit comments, if any, to the Department and to the applicant, no later than 30 days after the deadline date for the submission of applications; (2) the applicant's response to the SPOC comments, if any, must be submitted to the Department no later than 15 days after the postmarked date of the comments from the SPOC; (3) the Department will notify the SPOC (with copy to the applicant) of its decision regarding the SPOC comments and applicant response; and (4) the Department will implement that decision within 10 days after it has notified the SPOC. The names and addresses of the SPOCs are listed in the Office of Management and Budget's (OMB) home page at http://www.whitehouse.gov/omb/grants/spoc.html.

Allowable Costs. The Department shall determine what constitutes allowable costs in accordance with the following Federal cost principles, as applicable: OMB Circular A-87, State and Local Governments; OMB Circular A-21, Educational Institutions; OMB Circular A-122, Nonprofit Organizations; and 48 CFR part 31, Profit-Making Commercial Firms.

C. Submission Date, Time, and Address

The closing date for receipt of applications under this announcement is September 1, 2009. Applications must be received at the address below, or electronically received at the Web site below, no later than 4 p.m. Eastern Time. Applications sent by e-mail, telegram, or facsimile (fax) will not be accepted. Applications that do not meet the conditions set forth in this notice will not be honored. No exceptions to the mailing and delivery requirements set forth in this notice will be granted.

Mailed applications must be addressed to the U.S. Department of Labor, Employment and Training Administration, Division of Federal Assistance, Attention: B. Jai Johnson, Ref: SGA/DFA PY 09-02, 200 Constitution Avenue, NW., Room N-4716, Washington, DC 20210. Applicants are advised that mail delivery in the Washington area may be delayed due to mail decontamination procedures. Hand-delivered proposals will be received at the above address. All overnight mail will be considered to be hand-delivered and must be received at the designated place by the specified closing date and time.

Applicants may apply online through Grants.gov (http://www.grants.gov). Any application received after the deadline will not be accepted. It is strongly recommended that applicants applying online for the first time via Grants.gov immediately initiate and complete the “Get Registered” registration steps at http://www.grants.gov/applicants/get_registered.jsp. These steps may take multiple days or weeks to complete, and this time should be factored into plans for electronic application submission in order to avoid unexpected delays that could result in rejection of an application. If submitted electronically through Grants.gov, the application must be submitted as either .doc, .xls, or .pdf files.

D. Funding Restrictions

All proposal costs must be necessary and reasonable in accordance with Federal guidelines. Determinations of allowable costs will be made in accordance with the applicable Federal cost principles. Disallowed costs are those charges to a grant that the grantor agency or its representative determines not to be allowed in accordance with the applicable Federal Cost Principles or other conditions contained in the grant. Applicants will not be entitled to reimbursement of pre-award costs. Funds provided under these grants shall only be used for activities that are in addition to those that would otherwise be available in the local area in the absence of such funds.

Indirect Costs. As specified in OMB Circulars on Cost Principles, indirect costs are those that have been incurred for common or joint objectives and cannot be readily identified with a particular cost objective. In order to utilize grant funds for indirect costs incurred, the applicant must obtain an Indirect Cost Rate Agreement with its Federal Cognizant Agency either before or shortly after the grant award. The Federal Cognizant Agency is generally determined based on the preponderance of Federal dollars received by the recipient.

Administrative Costs. An entity that receives a grant to carry out a project or program may not use more than 15 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an Indirect Cost Rate Agreement from its Federal Cognizant Agency as specified above.

E. Salary and Bonus Limitations

In compliance with Public Law 109-234 and Public Law 110-5, none of the funds appropriated in Public Law 109-149, Public Law 110-5, or prior Acts under the heading “Employment and Training” that are available for expenditure on or after June 15, 2006, shall be used by a recipient or sub-recipient of such funds to pay the salary and bonuses of an individual, either as direct costs or indirect costs, at a rate in excess of Executive Level II, except as Public Law 109-149. This limitation shall not apply to vendors providing goods and services as defined in OMB Circular A-133. See Training and Employment Guidance Letter Number 5-06 for further clarification: http://wdr.doleta.gov/directives/corr_doc.cfm?DOCN=2262.

F. Legal Rules Pertaining to Inherently Religious Activities by Organizations That Receive Federal Financial Assistance

Direct Federal grants, sub-award funds, or contracts under this program shall not be used to support inherently religious activities such as religious instruction, worship, or proselytization. Therefore, organizations must take steps to separate, in time or location, their inherently religious activities from the services funded under this program. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972), national origin, age, disability, or political affiliation or belief.” Regulations pertaining to the Equal Treatment for Faith-Based Organizations, which includes the prohibition against Federal funding of inherently religious activities, can be found at See 29 CFR Part 2, Subpart D. Provision relating to the use of indirect support (such as vouchers) are at 29 CFR 2.33(c) and 20 CFR 667.266.

A faith-based organization receiving federal funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of DOL funded activities. Faith and community-based organizations may also reference ETA Training and Employment Guidance Letter (TEGL) No. 01-05 (July 6, 2005), available at http://wdr.doleta.gov/directives/corr_doc.cfm?DOCN=2088. Faith-based and community organizations may learn about equal treatment and religion-related regulations through the DOL's new online training course at Workforce3one (http://www.workforce3one.org). The course can be found by typing the key words “equal treatment” in the search box on the upper right hand corner of the page. If you are previously registered on this site, you can find the course directly at http://www.workforce3one.org/public/shared/detail.cfm?id=5566&simple=false.

Intellectual Property Rights. The Federal Government reserves a paid-up, nonexclusive and irrevocable license to reproduce, publish or otherwise use, and to authorize others to use for Federal purposes: (i) The copyright in all products developed under the grant, including a subgrant or contract under the grant or subgrant; and (ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

If applicable, the following needs to be on all products developed in whole or in part with grant funds: “This workforce solution was funded by a grant awarded by the U.S. Department of Labor's Employment and Training Administration.

The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for non-commercial purposes is permissible. All other uses require the prior authorization of the copyright owner.”

G. Withdrawal of Application

Applications may be withdrawn by written notice or telegram (including mailgram) received at any time before an award is made. Applications may be withdrawn in person by the applicant or by an authorized representative thereof, if the representative's identity is made known and the representative signs a receipt for the proposal.

Other Submission Requirements. All other material required to be submitted is identified in the various sections of this solicitation.

V. Application Review Information Criteria

The following review criteria, totaling a maximum of 100 points, apply to all applications:

1. Economic Analysis of the Area: Understanding the Problems of the Eligible Migrants and Seasonal Farmworkers in the State Service Area—15 Points. To fully understand the problems encountered by migrants and seasonal farmworkers as they seek enhanced employment opportunities requires a full understanding and analysis of the economy in the state service area, its industries and the employment opportunities they present for farmworkers, and the outreach strategies necessary to secure those opportunities for farmworkers; (as described in the priorities listed in Section I). Therefore, applicants must provide an analysis of the economy (agricultural and non-agricultural) in the geographic area they propose to serve, the employment outlook for the area, including the number of employers with whom they currently work, and a plan for outreach to and recruitment of new employers. A description of the expected job opportunities for migrants and seasonal farmworkers from these new employers, and how economic conditions and employer hiring needs affect the employment prospects of eligible migrant and seasonal farmworkers must also be provided.

This section must also include a detailed description of the state/regional labor market, both agricultural and non- agricultural, the economic conditions expected during the course of the program year, and the hiring implications those economic conditions pose for the employers in the region/area. In addition, this section must include a discussion of the industries that are declining in the service area/region as well as those industries targeted for growth and expansion that hold the potential for improved employment and earnings for farmworkers. Applicants should also discuss the strategies to be used in securing those opportunities for farmworkers.

Applicants must also describe the socio-economic characteristics and problems faced by eligible farmworkers, and their dependents, in the proposed service area/region. To do so, applicants must describe the implications that economic conditions and challenges in the region, the labor market outlook, and the analysis of potential high growth occupations hold for the workforce strategies proposed through this solicitation. Scoring will also be based on how well the proposal demonstrates the nexus between economic conditions, the characteristics of the eligible farmworkers, the educational resources, and the workforce investment needs of the population to be served. The review and evaluation of this factor will also look at the strategies developed for outreach to and recruitment of new employers that can provide improved job placement opportunities, both within and outside agriculture, for the farmworkers to be served. The proposal should clearly describe the links between the economic analysis conducted for this application and the applicant's assessment of the number of new employers to be recruited, including a description of how this will result in improved employment opportunities for farmworkers in higher-skilled, higher-paid occupations.

2. Strategic Partnerships and Collaboration: Familiarity With the Proposed Service Area—25 Points. This section must include a description of the agencies and strategic partners in the requested service area, including faith-based and community organizations, and the applicant's experience in collaborating with these organizations in a service delivery strategy for migrant and seasonal farmworkers. It should also include a description of the services available through local service organizations, including faith-based and community organizations, and the applicant's strategy to mobilize those organizations to provide comprehensive services to farmworkers while optimizing the use of limited NFJP resources, particularly supportive or related assistance services.

All applicants must describe their organization's prior experience, if any, and demonstrated effectiveness in working with the One-Stop Career Center system in the requested service area to provide services to farmworkers. Include a description of the applicant's collaborative efforts to date to integrate services to farmworkers across all partners in the One-Stop Career Center system, and the steps to be taken to establish a significant, consistent impact on services integration.

These steps may include, but are not limited to:

• Participation in local/state activities to develop the modification to the State Strategic Plans for Title I of the WIA and the Wagner-Peyser Act for years three and four of the current five-year planning cycle;

• Participation in activities that connect workforce investment and education with economic development planning;

• Participation in activities that help the State Board or LWIB to get more agricultural employers involved in the workforce investment system;

• Setting co-enrollment targets (between the NFJP and the WIA formula funded programs) that represent a substantial increase in services to farmworkers;

• Creating better pathways to both basic and post-secondary education, specifically with community colleges;

• Entering into and implementing agreements with the State Board or the LWIBs and One-Stop operators to significantly increase outreach to farmworkers, and to significantly increase the number of One-Stop Career Center staff who are cross-trained in NFJP/adult and dislocated workers services and requirements. Applicants must describe their experience with developing or improving existing working relationships between partners in the One-Stop Career Center system, and how that experience will be translated into improved services integration for eligible farmworkers.

Scoring on this factor will be based how the information requested above represents evidence of the applicant's knowledge of and working relationship with the network of workforce investment and related services in the requested service area, including the One-Stop Career Center system, and the services offered by social, educational, faith-based, community, and health organizations that are available to assist farmworkers. Scoring will also be based on the applicant's effectiveness and success with causing these organizations to direct their resources towards addressing the needs of farmworkers in the requested service area in ways that maximize the availability of limited NFJP resources while increasing the services provided to farmworkers through the One-Stop and/or other service agencies.

3. Administrative Capacity—20 Points. Applicants must demonstrate that they have adequate and sustainable management information, performance management, case management, accounting, and program and fiscal reporting systems in place to ensure program and fiscal integrity. Because the NFJP has eligibility requirements for participation in the program, the applicant must also describe the eligibility determination and verification system in place that will allow for correct eligibility determinations and minimize enrollment of ineligible participants. Additionally, all ETA-funded job training programs, including the NFJP, are implementing a data validation initiative intended to ensure that the data collected and reported to ETA is accurate. An applicant's participant and reporting system must be able to implement data validation procedures, as described in TEGL 3-03, 3-03 change 1, and 3-03 change 2 (OMB clearance issued August 31, 2004).

Applicants must describe their systems in support of program integrity, such as management information, performance management, and program participation (including individual participant records), needed for quarterly reporting and performance accountability and management, and to establish and maintain a client-centered case management system. Applicants are reminded that the NFJP is subject to OMB's common measures for job training and employment (Entered Employment, Employment Retention, and Average Earnings, described earlier in this solicitation); therefore, the data collection and reporting system, as well as its link to performance management and accountability, must be described in detail.

Fiscal integrity is a critical component of operating any federally funded program. The applicant must describe a system that is sufficient to prepare financial reports and to trace funds to adequate levels of expenditures to ensure lawful spending.

The system must have the capacity to track spending by program, to ensure that, for those organizations with funding from more than one federal program, expenditures are posted against the appropriate program. The system must also be able to track program income generated through activities funded by the NFJP grants, and show the link between program income and those additional participants and/or services funded through program income. Applicants must describe their capacity to manage supportive services, also described as related assistance services, and to account for expenditures related to these services.

The NFJP is required to use electronic reporting via the Internet. Applicants must describe their capacity to provide the equipment, access, and staff qualified to perform on-line reporting. The applicant must also demonstrate its capacity to provide case management as well as the electronic tools to be utilized (Personal Computer, software, Internet access, and e-mail accounts) to implement a client-centered case management system.

Scoring on this factor will be based on evidence of effective systems for performance accountability and management, program and fiscal reporting, case management, eligibility determination and verification, as well as the ability to report electronically through the Internet.

4. Integrated Service Delivery Strategies: Proposed Plan of Services—40 Points Total. This criterion is broken into three sub-criteria, with individual point values defined below. This criterion should include a description of how the proposed service plan will strengthen migrant and seasonal farmworkers' ability to obtain or retain employment and to access appropriate educational opportunities (remediation, career guidance, apprenticeships). Please note that the Proposed Plan of Service, Integration of Services, and Opportunities for Farmworkers sub-criteria equal a total of 40 points.

A. Proposed Plan of Service—20 points. The proposal should describe the applicant's vision, strategy, goals and objectives that guide the proposed plan of service and the results expected from implementing the proposed plan. The program plan of service section must include descriptions of:

• The state service area covered by the plan.

• An estimate of the number of migrant and seasonal farmworkers, broken out by category, to be provided training services. An estimate should be included of the number of migrant and seasonal farmworkers, broken out by category, who will be provided related assistance services only.

• The strategies for conducting participant outreach and recruitment, including the involvement, where applicable, of faith-based and community organizations in those strategies, as well as other One-Stop Career Center partner programs.

• The proposed client-centered case management system, including the staff's responsibilities for managing the system, the staff development opportunities available to enhance their skills in case management, and the capacity to increase community resources available for case management through joint alliances and/or endeavors, such as through faith-based or community organizations, or through the One-Stop Career Center system.

• The core services proposed, and how those services will be delivered in collaboration with the One-Stop system. Include a description of the eligibility determination system and how the applicant determines service priorities.

• The intensive services proposed, the strategy for providing them, and the collaboration with the One-Stop Career Center system in the provision of these services (see definition of intensive services at WIA section 134(d)(3) and 20 CFR 669.370). Please note that the NFJP regulations at 20 CFR 669.380 provide that the delivery of intensive and training services should flow from an objective assessment process that includes an Individual Employment Plan. The proposal must describe the strategy for doing this, as well as the organization's capacity to appropriately address an individual's needs as identified through the objective assessment. Intensive services are described in WIA 134(d)(3)(C) and 20 CFR 669.370.

• If work experience is to be offered as an activity, the process by which the determination to use it is based, and the strategy for measuring its success as a program activity. (See 20 CFR 669.370 (b)(i) and (b)(ii)(B) for additional information on work experience activities.) The training services to be provided to eligible farmworkers, including the process used to determine a participant's enrollment in training services, and the process used when the determination is made not to place a participant in training. (See 20 CFR 669.410 for a description of training services.) In addition, the proposal should describe the strategy to be used to promote co-enrollment of participants in the WIA formula funded programs.

• Related assistance services (see definition at 20 CFR 669.110), including supportive services, needed by migrant and seasonal farmworkers and their dependents, and the strategy for providing those services, including the agencies or organizations with whom the applicant will collaborate and/or coordinate these services. The proposal should provide separate descriptions for those farmworkers receiving supportive services and also intensive and/or training services, and those farmworkers for whom related assistance services will be the only services provided. It should also include a description of the process used to determine the need for related assistance services, the differences in the determination process, if any, among migrant and seasonal farmworker groups, and the rationale for the differences. Applicants are reminded that the NFJP is intended to be a job training program, whose purpose is to assist eligible migrant and seasonal farmworkers and their families prepare for jobs that provide stable, year-round employment, both within and outside agriculture. Related assistance services include supportive services that assist eligible migrant and seasonal farmworkers to retain employment or enter into or remain in training. While no limitation is placed on the numbers of participants receiving related assistance services only, applicants are expected to describe in full how they will continue to increase the number of participants receiving employment and training services.

• The strategy for balancing related assistance services with the need to increase employment and training services.

• The educational approaches to be used, including remediation, GED attainment, GED leading to apprenticeships, career guidance and other pathways leading to credentialing or post secondary opportunities, if applicable, to assist the participant in obtaining the occupational skills that lead to employment in high-growth occupations or to higher paying employment within the agricultural industry.

• The strategies to be used to achieve performance results with respect to job placement, employment retention, and average earnings (i.e., the common measures).

• The strategies to address how job placement opportunities will be pursued among the employers in the service area, including how job placement opportunities from new employers will be secured, as well as opportunities in high growth industries/occupations.

• The process by which the applicant will conduct follow-up services for those who are placed in jobs or engaged in entrepreneurial activities.

Scoring of this factor will be based on evidence that the plan of service contains a balanced program of activities and a rationale for the proposed services.

B. Integration of Services—10 points. All applicants must demonstrate how the service strategy achieves integration of services by all partners in the One-Stop system, and how this integration results in enhanced and improved workforce investment services to farmworkers, within a state service area and/or regional economy. The plan should provide clear evidence that the service plan expands the workforce and related services available to farmworkers due to a closer integration and specific collaboration between the NFJP and the local workforce investment system, new or stronger partnerships with faith-based and community organizations, as appropriate. Scoring on this factor will be based on evidence that the service plan encompasses resources and program activities available from other One-Stop Career Center partners and/or the local services agencies, including faith-based and community organizations.

C. Opportunities for Farmworkers—10 points. The evaluation of this factor will assess whether the service strategy and service plan presented by the applicant reflects knowledge of the local workforce investment plan and proposes services that complement that plan in a way that increases employment opportunities for farmworkers. Applicants should include service delivery strategies that will provide farmworkers with career pathways both within and outside agricultural employment; i.e., remediation leading to post secondary education or credentialing (if appropriate); high school diplomas or GED leading to apprenticeship opportunities, if applicable; and/or industry-accepted certifications. Also included in this criterion should be activities to upgrade farmworkers' employment opportunities within agriculture.

Review and Selection Process. A review panel will rate each proposal according to the criteria scoring factors specified in this solicitation. Panel reviews are critical to the selection of grantees but are advisory in nature, and their recommendations are not binding on the Grant Officer. The Grant Officer, in selecting potential grantees, may consider any information that comes to his or her attention, including past performance under a previous grant and information from the program office, and will make the final selection determination based on what best meets the needs of eligible migrants and seasonal farmworkers in the area to be served. The Grant Officer may consider factors such as panel findings, geographic presence of the applicants, proposed areas to be served, and other pertinent factors. In making award determinations, the Grant Officer retains full authority to set aside panel results and scoring in cases that the Grant Officer considers appropriate, and to select the applicant the Grant Officer deems best suited to serve the migrant and seasonal farmworker population.

The Grant Officer's determination for award under this SGA is final. The Grant Officer may elect to make awards either with or without discussions and negotiations with the applicant. In situations without discussions, an award will be based on the applicant's signature on the SF-424, which constitutes a binding offer.

Applications rated by the review panel with a score of less than 80 points will not be recommended for an award. The Grant Officer retains full authority to designate a grantee he or she deems best suited to serve the migrant and seasonal farmworker population, regardless of whether the applicant is the incumbent provider, a challenger, or an entity that did not initially submit an application pursuant to the criteria defined herein; especially in those areas with no applications receiving a score equal to or greater than 80. In areas where there are no applications with a score of 80 or above, the process for selecting another potential grantee, described in Section II, will be implemented.

VI. Award Administration Information

Award Notices. The Grant Officer will notify applicants, in writing, if they are selected as potential grantees. The notification will invite each potential grantee to negotiate the final terms and conditions of the grant as applicable, will establish a reasonable time and place for the negotiations, and will indicate the specific state service area and amount of funds to be allocated under the grant. FY2009 funds will be awarded for the period October 1, 2009 to June 30, 2010.

An applicant that is not selected as a potential grantee or whose application has been denied in part or in whole by the Department will be notified in writing by the Grant Officer and advised of all appeal rights. The notification will outline the deficiencies as noted by the review panel. The written notification by the Grant Officer constitutes a final decision, for the purposes of 20 CFR 667.800.

Administrative and National Policy Requirements. There are no additional administrative or national policy requirements.

Reporting. An applicant's proposal becomes the annual grant plan after a grant award is made, with additional information as appropriate and requested by the funding agency. WIA section 167 grantees will be required to submit reports on financial expenditures, program participation, and participant outcomes on a quarterly basis. Grantees will also have to submit planned financial expenditures and planned program participation forms at the beginning of the program year. Grantees must report electronically, but may be asked to submit reports in paper form on occasion. As reflected earlier in this solicitation, this program is subject to the common measures of performance. Grantees will be required to provide the data necessary to collect information for reporting performance results against the common measures.

VII. Agency Contacts

Questions related to this solicitation may be directed to Ms. Mamie Williams, Grants Management Specialist, telephone 202-693-3341; e-mail address: Williams.mamie@dol.gov; fax: 202-693-2879 (this is not a toll free number). Please include a contact name, fax and telephone number. This announcement is also being made available on the ETA Web site at http://doleta.gov/sga/sga.cfm and http://www.grants.gov.

VII. Other Information

OMB Information Collection No. 1225-0086 Expires September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Office of Management and Budget, Room 10235, Washington, DC 20503. Please do not return your completed application to the OMB. Send it to the sponsoring agency as specified in this solicitation.

This information is being collected for the purpose of awarding a grant. The information collected through this “Solicitation for Grant Applications” will be used by DOL to ensure that grants are awarded to the applicant best suited to perform the functions of the grant. Submission of this information is required in order for the applicant to be considered for award of this grant. Unless otherwise specifically noted in this announcement, information submitted in the respondent's application is not considered to be confidential.

Dated: July 15, 2009.
B. Jai Johnson,
Grant Officer, Employment and Training Administration.

[FR Doc. E9-17520 Filed 7-22-09; 8:45 am]

BILLING CODE 4510-FN-P